NUCLEAR REGULATORY COMMISSION

[Docket Nos. 50-335, 50-389, 50-250, and 50-251; NRC-2014-0012]

License Nos. DPR-67, NPF-16, DPR-31, and DPR-41; Florida Power & Light Company, St. Lucie Plant, Units 1 and 2, Turkey Point Nuclear Generating, Units 3 and 4

AGENCY: Nuclear Regulatory Commission.

ACTION: Director's decision; issuance.

SUMMARY: The U.S. Nuclear Regulatory Commission (NRC) is giving notice that the Director of the Office of Nuclear Reactor Regulation has issued a director's decision with regard to a petition dated April 23, 2012, filed by Mr. Thomas King (the petitioner).

ADDRESSES: Please refer to Docket ID NRC-2014-0012 when contacting the NRC about the availability of information regarding this document. You may access publicly-available information related to this action by the following methods:

• Federal rulemaking Web site: Go to http://www.regulations.gov and search for Docket ID NRC-2014-0012. Address questions about NRC dockets to Carol Gallagher; telephone: 301-287-3422; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

SUPPLEMENTARY INFORMATION: Notice is hereby given that the Director, Office of Nuclear Reactor Regulation, U.S. Nuclear Regulatory Commission (NRC) has issued a Director's Decision on a petition filed by Mr. Thomas King (hereafter referred to as “the petitioner”). The petition, dated April 23, 2012, (ADAMS Accession No. ML13295A021), concerns the operation of the St. Lucie Plant, Units 1 and 2, and the Turkey Point Nuclear Generating Units 3 and 4 (St. Lucie and Turkey Point plants), which are operated by Florida Power & Light Company (the licensee).

The petitioner requested that the NRC take immediate enforcement action in the form of shutting down or prohibiting the restart of the St. Lucie and Turkey Point plants until a criminal investigation of the AMES Group, LLC (AMES, a contractor that performed work for the licensee at the St. Lucie and Turkey Point plants) is complete and everything has been verified safe. The petitioner requested that the NRC prevent the St. Lucie and Turkey Point plants from starting up until the licensee's contractor is cleared, all documents and work performed on safety-related equipment at both plants is independently verified, and all critical work and motor-operated valve testing is redone. As the basis for the request, the petitioner stated that the licensee was in violation of its policies and procedures on contractor trustworthiness and that work on safety-related equipment may have been done by unqualified contractor employees.

The NRC sent a copy of the proposed director's decision to the petitioner and the licensee for comment on November 1, 2013 (ADAMS Accession No. ML13198A110). The NRC requested that the petitioner and the licensee provide comments within 30 days on any part of the proposed director's decision which they considered to be erroneous or on any issues in the petition that were not addressed. The NRC did not receive comments.

The Director of the Office of Nuclear Reactor Regulation denied the petitioner's request to shut down or prevent restart of the St. Lucie and Turkey Point plants. The NRC staff found no basis for taking enforcement action against the licensee based on the petitioner's concerns. The NRC did not substantiate the petitioner's concern that AMES had sought to misrepresent the capabilities of its technicians to NRC licensed facilities. The NRC did not substantiate that the contractor willfully submitted falsified training and qualification documents for any AMES employee for consideration by the licensee. The director's decision (DD-14-01) under § 2.206 of Title 10 of the Code of Federal Regulations (10 CFR), “Requests for Action Under This Subpart,” explains the reasons for this decision. The complete text of the Director's Decision is available online in the NRC Library at http://www.nrc.gov/reading-rm.html by searching for ADAMS Accession No. ML13329A091. It is also available for inspection at the NRC's Public Document Room located at One White Flint North, Room O1-F21, 11555 Rockville Pike, Rockville, Maryland 20852.

The NRC will file a copy of the Director's Decision with the Secretary of the Commission for the Commission's review in accordance with 10 CFR 2.206. As provided for by this regulation, the Director's Decision will constitute the final action of the Commission 25 days after the date of the decision unless the Commission, on its own motion, institutes a review of the Director's Decision in that time.

Dated at Rockville, Maryland, this 14th day of January 2014.
For the Nuclear Regulatory Commission.
Eric J. Leeds,
Director, Office of Nuclear Reactor Regulation.

[FR Doc. 2014-01491 Filed 1-24-14; 8:45 am]

BILLING CODE 7590-01-P